DEPARTMENT OF HEALTH AND HUMAN SERVICES

Centers for Disease Control and Prevention

[30Day-21-1039]

Agency Forms Undergoing Paperwork Reduction Act Review

In accordance with the Paperwork Reduction Act of 1995, the Centers for Disease Control and Prevention (CDC) has submitted the information collection request titled Information Collection on Cause-Specific Absenteeism in Schools to the Office of Management and Budget (OMB) for review and approval. CDC previously published a “Proposed Data Collection Submitted for Public Comment and Recommendations” notice on March 1, 2021 to obtain comments from the public and affected agencies. CDC received and replied to two non-substantive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Information Collection on Cause-Specific Absenteeism in Schools (OMB Control No. 0920-1039)—Reinstatement with Change—National Center for Emerging and Zoonotic Infectious Diseases (NCEZID), Centers for Disease Control and Prevention (CDC).

Background and Brief Description

The Information Collection on Cause-Specific Absenteeism in Schools aims to improve; (1) understanding of the role of influenza-like illness (ILI)-specific absenteeism in schools in predicting community-wide influenza transmission, and (2) to detect within-household transmission of influenza in households from which a student has been absent from school due to ILI.

Due to children's naïve immunity, their susceptibility to infectious diseases, and congregation of children at schools, schools serve as amplification points for influenza transmission. Therefore, the collection of ILI-specific absenteeism could provide information needed to detect influenza outbreaks early, before infection spreads to a wider community. Such early detection of outbreaks will enable public health and school authorities to implement appropriate infection control and prevention measures.

School children are frequently the main introducers of influenza to their families. Evaluating influenza transmission within households where students are absent from school because of ILI may serve as an additional layer of influenza surveillance, and could contribute to understanding of influenza transmission dynamics within the surrounding community. Insights gained from this information collection will be used to strengthen the evidence-base of CDC's Pre-Pandemic Guidance prior to the next pandemic.

Since obtaining OMB approval in December 2014, 2,466 Oregon School District students with ILI have been enrolled in the study. Of them, 68% were positive for at least one respiratory pathogen included in the PCR panel that tests for presence of 17 common respiratory viruses, and 29% of students were found to be positive for influenza. It was demonstrated that absenteeism due to ILI in school children was highly correlated with PCR-confirmed influenza in enrolled school children, and medically-attended influenza in the surrounding community, suggesting that ILI-specific school absenteeism can be considered a useful tool for predicting influenza outbreaks in the surrounding community. For all six seasons, (2015-2021) significant, positive cross-correlations were achieved for absenteeism due to illness (a-I) and absenteeism due to ILI (a-ILI) at least 14 days in advance of MAI. Further observations during influenza seasons caused by other influenza strains are needed to make these findings more robust.

In the currently approved information collection, information and biospecimens are collected only from students who were absent from school because of ILI. This reinstatement with change to the currently approved information collection adds a household transmission component, in which information and biospecimens will be collected from household members of students absent from school because of ILI. This aims to enhance current knowledge and understanding around the introduction of influenza infection to households that have school-age children, as well as within-household influenza transmission.

CDC requests approval for 434 annual burden hours. There is no cost to respondents other than their time to participate.

Estimated Annualized Burden Hours
Type of respondent | Form name | Number of respondents | Number of responses per respondent | Average burden per response (in hours)
Parents of children/adolescents or adult students (≥18 yo) attending schools | Screening Form | 345 | 1 | 5/60
| Acute Respiratory Infection and Influenza Surveillance Form | 300 | 1 | 15/60
| Household Study Form A | 300 | 1 | 5/60
Student | Biospecimen collection (Day 0) | 300 | 1 | 5/60
Parents of children/adolescents or adult students (≥18 yo) attending schools | Household Study Form B (Day 7 and 14) | 240 | 1 | 5/60
Student | Biospecimen collection (Day 7 and 14) | 240 | 1 | 5/60
Household members | Household Study Form B (Day 0, 7 and 14) | 720 | 2 | 5/60
Household members | Biospecimen collection (Day 0, 7 and 14) | 720 | 2 | 5/60

Jeffrey M. Zirger,
Lead, Information Collection Review Office, Office of Scientific Integrity, Office of Science, Centers for Disease Control and Prevention.

[FR Doc. 2021-19754 Filed 9-13-21; 8:45 am]

BILLING CODE 4163-18-P